DEPARTMENT OF LABOR

Employment and Training Administration

[TA-W-54,973]

Hubbell Electrical Products, Louisiana, MI; Notice of Termination of Investigation

Pursuant to section 221 of the Trade Act of 1974, as amended, an investigation was initiated on May 25, 2004, in response to a worker petition filed by the Missouri Division of Workforce Development on behalf of workers at Hubbell Electrical Products, Louisiana, Missouri.

The petitioner has requested that the petition be withdrawn. Consequently, the investigation has been terminated.

Signed in Washington, DC this 28th day of May, 2004.
Richard Church,
Certifying Officer, Division of Trade Adjustment Assistance.

[FR Doc. 04-13374 Filed 6-14-04; 8:45 am]

BILLING CODE 4510-30-P